NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by July 11, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant

Permit Application No. 2009-009, Rennie S. Holt, U.S. AMLR Program, Southwest Fisheries Science Center, National Marine Fisheries Service, 8604 La Jolla Shores Drive, La Jolla, CA 92038.

Activity for Which Permit Is Requested

Take and Import into the U.S.A. The applicant plans capture up to 30 adult female southern elephant seals which will be tagged, dye marked, blood sampled, weighed, morphometric measurements taken, muscle/blubber biopsy taken, and vibrissae collected. In addition up to 150 juvenile southern elephant seals will be captured to collect morphometric measurements, determine gender and tag. Up to 50 Leopard seals per year will have tissue plugs taken from their flippers using a disposable 2 mm biopsy punch. These samples will be used in DNA studies.

Location

ASPA 149—Cape Shirreff, Livingston Island (including San Telmo Islands), and Seal Island.

Dates

November 1, 2008 to April 30, 2011.

Nadene G. Kennedy,
Permit Officer, Office of Polar Programs.

[FR Doc. E8-13075 Filed 6-10-08; 8:45 am]

BILLING CODE 7555-01-P